DEPARTMENT OF THE INTERIOR

National Park Service

[NPS-WASO-NAGPRA-NPS0028047; PPWOCRADN0-PCU00RP14.R50000]

Notice of Inventory Completion: Fort Lewis College, Durango, CO

AGENCY: National Park Service, Interior.

ACTION: Notice.

SUMMARY: Fort Lewis College has completed an inventory of human remains in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains and associated funerary objects should submit a written request to Fort Lewis College. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Fort Lewis College at the address in this notice by July 15, 2019.

ADDRESSES: Dr. Kathleen Fine-Dare, NAGPRA Tribal Liaison, Fort Lewis College, Office of the President, 1000 Rim Drive, Durango, CO 81301 telephone (970) 247-7438, email fine_k@fortlewis.edu.

SUPPLEMENTARY INFORMATION: Notice is here given in accordance with the Native American Graves Protection and Repatriation Act (NAGPRA), 25 U.S.C. 3003, of the completion of an inventory of human remains under the control of Fort Lewis College. The human remains were removed from three different locations in the area of Durango, in La Plata County, CO.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Fort Lewis College professional staff in consultation with representatives of the Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo (previously listed as the Ysleta Del Sur Pueblo of Texas); and the Zuni Tribe of the Zuni Reservation, New Mexico (hereafter referred to as “The Tribes”).

History and Description of the Remains

In 1978, human remains representing, at minimum, one individual were removed from La Plata County, CO. Individuals were collecting antlers on private land when they found the human remains on the surface of the Animas Valley, along the western cliff edges. Some scattered fragments found on the cliff suggest that the individual had originally been placed in a crevice in the cliff face. La Plata County Sheriff's deputies called to the scene turned over the majority of the bones to Fort Lewis College, where they were assigned catalog number FLC 500. The human remains consist of a cranium with dentition and a partial postcranial skeleton (R scapula, pelvic girdle, L femur, L tibia, and several ribs), of an adult male 40-55 years of age whose cranial and dental characteristics are highly consistent with Native American ancestry. No known individuals were identified. No associated funerary objects are present.

Sometime in the 1960s, human remains representing, at minimum, one individual were removed from the vicinity of Berndt Hall on the Fort Lewis College campus in Durango, CO. The human remains of the individual, assigned catalog number FLC 609, consist of a cranium with dentition belonging to an adult male 35-45 years of age whose cranial characteristics are consistent with Native American ancestry. Based on other known archeological contexts from the immediate area, the notes accompanying the human remains state that they could plausibly be dated to BMIII to PI. There is no additional information regarding the circumstances under which the human remains arrived in the collection of the Department of Anthropology at Fort Lewis College. No known individuals were identified. No associated funerary objects are present.

Sometime in the mid- to later twentieth century a private landowner, Milo Dearien, came across the human remains of one individual during construction on 6440 County Road 203, north of Durango, in the north Animas Valley. Dearien transferred the human remains to Fort Lewis College in the mid-1980s. The human remains, consist of a cranium lacking teeth, belong to an adult female 30-45 years of age. No known individuals were identified. No associated funerary objects are present.

Based on the nature and location of the sites, the manner of burial, the treatment of the crania, the Native American biological characteristics of the crania, and the oral histories of the Ute peoples regarding life and death in the Durango region, the human remains in this notice are identified as Ute.

Determinations Made by Fort Lewis College

Officials of Fort Lewis College have determined that:

• Pursuant to 25 U.S.C. 3001(9), the human remains described in this notice represent the physical remains of three individuals of Native American ancestry.

• Pursuant to 25 U.S.C. 3001(2), there is a relationship of shared group identity that can be reasonably traced between the Native American human remains and the Southern Ute Indian Tribe of the Southern Ute Reservation, Colorado and the Ute Mountain Ute Tribe (previously listed as the Ute Mountain Tribe of the Ute Mountain Reservation, Colorado, New Mexico & Utah).

Additional Requestors and Disposition

Lineal descendants or representatives of any Indian Tribe or Native Hawaiian organization not identified in this notice that wish to request transfer of control of these human remains should submit a written request with information in support of the request to Dr. Kathleen Fine-Dare, NAGPRA Tribal Liaison, Fort Lewis College, Office of the President, 1000 Rim Drive, Durango, CO 81301, telephone (970) 247-7438, email fine_k@fortlewis.edu, by July 15, 2019. After that date, if no additional requestors have come forward, transfer of control of the human remains to the Southern Ute Indian Tribe of the Southern Ute Reservation, Colorado and the Ute Mountain Ute Tribe (previously listed as the Ute Mountain Tribe of the Ute Mountain Reservation, Colorado, New Mexico & Utah) may proceed.

Fort Lewis College is responsible for notifying The Tribes that this notice has been published.

Dated: May 28, 2019.
Melanie O'Brien,
Manager, National NAGPRA Program.

[FR Doc. 2019-12467 Filed 6-12-19; 8:45 am]

BILLING CODE 4312-52-P